DEPARTMENT OF AGRICULTURE

Forest Service

Special Areas; Roadless Area Conservation; National Forest System Lands

AGENCY: Forest Service, Agriculture (USDA).

ACTION: Notice of intent to prepare an environmental impact statement.

SUMMARY: The U.S. Department of Agriculture is initiating an environmental impact statement (EIS) and rulemaking concerning management of inventoried roadless areas on approximately 44.7 million acres of National Forest System lands, including in Alaska. The proposed rule would rescind the 2001 Roadless Area Conservation Rule (2001 Roadless Rule) (66 FR 3244, 36 CFR Subpart B (2001)), which prohibits road construction, road reconstruction, and timber harvesting in inventoried roadless areas, with limited exceptions. State-specific roadless rules for Idaho and Colorado at 36 CFR 294 Subparts C and D will be retained and are excluded from this notice. Rescinding the 2001 Roadless Rule is intended to return decision making for road construction, road reconstruction, and timber harvesting in inventoried roadless areas to local officials, in conjunction with Forest-level land management planning. As directed by Executive Order 14153: Unleashing Alaska's Extraordinary Resource Potential, the proposed rule will expressly exclude the Tongass National Forest from the 2001 Roadless Rule. The EIS will evaluate the impacts of the proposed rule rescission and study alternatives for roadless area conservation on National Forest System lands, including the Tongass National Forest, in the context of multiple use resource management. USDA invites written comments on alternatives or effects and on relevant information, studies, or analyses with respect to the proposal.

DATES: Comments must be received in writing by September 19, 2025. The proposed rule, accompanied by a draft EIS, is expected by March 2026, along with a request for additional public comment. The final rule, EIS, and record of decision are expected to be released in late 2026.

ADDRESSES: Additional information, including the eventual publication of the EIS and record of decision, can be found on the following website: https://www.fs.usda.gov/managing-land/planning/roadless. Comments must be submitted via one of the following methods:

• Electronically (preferred): Through the Federal eRulemaking Portal, https://www.regulations.gov, identified by docket number FS-2025-0001. Follow the instructions for submitting comments.

• Mail: Hardcopy letters must be submitted to the Director, Ecosystem Management Coordination, 201 14th Street SW, Mailstop 1108, Washington, DC 20250-1124.

FOR FURTHER INFORMATION CONTACT: Brad Kinder, Acting Director, Ecosystem Management Coordination, at the following phone number: 202-205-0650. Individuals who are deaf, hard of hearing, or have a speech disability may call 711 to reach the Telecommunications Relay Service then provide the phone number of the person named as a point of contact for further information.

SUPPLEMENTARY INFORMATION:

Background

Current Status of Inventoried Roadless Areas

Today, inventoried roadless areas total approximately 58.2 million acres, or about 30 percent of all National Forest System lands. The 2001 Roadless Rule applies to approximately 44.7 million acres of National Forest System lands, including about 9.3 million acres within the Tongass National Forest. The 44.7 million acres exclude approximately 9.3 million acres in Idaho and 4.2 million acres in Colorado, which are under state specific roadless rules. Current areas are reflected on national maps at the Forest Service Roadless Area website (https://www.fs.usda.gov/managing-land/planning/roadless).

More than 95 percent of inventoried roadless areas managed under the 2001 Roadless Rule (outside of Colorado and Idaho) are in ten Western states, including (from largest inventoried roadless area acreage to smallest): Alaska, Montana, California, Utah, Wyoming, Nevada, Washington, Oregon, New Mexico, and Arizona. Sixty-three percent are forested areas (with at least 10 percent canopy cover). Congress has included approximately 1.3 million acres (or 2.8 percent) of inventoried roadless areas managed under the 2001 Roadless Rule in the National Wilderness Preservation System.

While they are referred to as `roadless', because of the history of their inventory and designation, there are thousands of miles of existing roads within lands designated under the 2001 Roadless Rule, including National Forest System roads as well as county, state, or other ownerships. About half of these lands are within 1 mile of a road and 31 percent are within 0.5 miles of a road (13.3 million acres).

Between 1984 and 2024, 13 percent of inventoried roadless areas (5.5 million acres) experienced high or moderate severity wildfire. The occurrence of moderate- to high-severity fire in inventoried roadless areas has increased in recent decades, especially since 2000, consistent with trends throughout the National Forest System. Currently, forty percent of lands within inventoried roadless areas have a high or very-high wildfire hazard potential, ranging from 5 percent in the Eastern Region to 60 percent in California. About 23 percent (10.2 million acres) of inventoried roadless areas managed under the 2001 Roadless Rule are within the wildland-urban interface (WUI), areas where human development intermixes with the wildland, based on the definition of WUI set out in the Healthy Forests Restoration Act of 2003 (16 U.S.C. 6511(16)). An additional 4.8 million areas are within one mile of the WUI, totaling about 35 percent of these inventoried roadless area acres.

The 2001 Roadless Rule Final EIS predicted that extensive fire reduction work would not be needed within inventoried roadless areas for at least 20 years. In the 24 years since that analysis, the area encompassing the WUI has increased alongside increased insect and disease and wildfire activity throughout the National Forest System, including within inventoried roadless areas. Insect and disease and wildfire activity, especially within the WUI, affects important resources, neighboring infrastructure, and communities. Additional information is available at the Forest Service Roadless Area website (https://www.fs.usda.gov/managing-land/planning/roadless).

Relationship of the 2001 Roadless Rule to Land Management Planning and Project-Level Decisions

The relationship between regulations, land management plans, and national forest projects is of particular importance. A land management plan, developed under the National Forest Management Act and the Planning Rule at 36 CFR 219, provides a framework for future project analysis and decision making. All land management plans conform to existing laws and regulations and are administratively changed as needed to conform to new statutory and regulatory requirements (36 CFR 219.1(f) and 219.13(c)).

The 2001 Roadless Rule did not amend, revise, or compel amendment or revision of any land management plans (36 CFR 294.14(b) (2001); 66 FR 3273); however, the Roadless Rule's provisions supersede the plan components for inventoried roadless areas applied through individual land management plans. The Forest Service planning directives (Forest Service Handbook (FSH) 1909.12, Chapter 24, updated in 2015) require land management plans to treat inventoried roadless areas as a type of designated area, with the option to also identify these areas as unique geographic areas or management areas in the plans. Plans may also include additional plan components for inventoried roadless areas if they are compatible with the restrictions of the applicable roadless rule. Within land management plans, inventoried roadless areas currently overlap on some national forests with other management areas, such as core habitats, research natural areas, alpine areas, or areas managed for backcountry recreation where there are expected to be low levels of development, including timber harvest and road construction. For example, 3.1 million acres managed under the 2001 Roadless Rule are also managed as recommended wilderness, and 6.5 million acres are managed as backcountry.

All site-specific project decisions must be consistent with land management plans. Any site-specific impacts on inventoried roadless areas and other resources must be analyzed, including National Environmental Policy Act compliance prior to a decision. Project decisions must comply with applicable Federal and State laws, such as the Clean Water Act, the Clean Air Act, Endangered Species Act, National Historic Preservation Act, and the Wilderness Act.

2001 Roadless Rule Implementation

Amid legal challenges to the 2001 Roadless Rule and to provide for consistent application, exceptions for specific activities in inventoried roadless areas (294.12(b) and 294.13(b)), were reviewed and authorized by the Secretary and Forest Service Chief until 2012. In 2012, certain exceptions were delegated to the applicable Regional Forester. Since 2018 all exceptions have been delegated to the Regional Forester. Approval requires review and documentation, including maps and justification. The use of exceptions has been limited, and the majority have been for forest stewardship purposes.

Purpose and Need for the Proposed Action

Given changing resource conditions and shifts in policy priorities, the Department believes that the “one-size-fits-all” approach to roadless area management under the 2001 Roadless Rule is no longer appropriate and proposes to use local land management planning processes to administer inventoried roadless areas. Rescinding the 2001 Roadless Rule would provide discretion for local land managers to tailor management, as appropriate, to local land conditions.

Under the current Administration, the USDA has refocused policies, programs, and resources on increasing rural economic opportunity, decreasing Federal regulation, and streamlining Federal government services. Specifically, this deregulatory action is proposed pursuant to Executive Order 14192, Unleashing Prosperity Through Deregulation, to alleviate unnecessary regulatory burdens. In Executive Order 14225, Immediate Expansion of American Timber Production, and Executive Order 14154, Unleashing American Energy, the President declared that the United States' national and economic security are currently threatened by our Nation's reliance upon foreign timber, energy and mineral production, and that it is imperative for the United States to take immediate action to facilitate domestic production of these natural resources to the maximum possible extent. As such, USDA is examining regulations that pose undue burden on production of the Nation's timber and identification, development, and use of domestic energy and mineral resources. This action is also being proposed in accordance with Executive Order 14153, Unleashing Alaska's Extraordinary Resource Potential, section 3(c), which directs that the Secretary of Agriculture “shall reinstate” the 2020 Alaska Roadless Rule (85 FR 68688) which exempted the Tongass National Forest from the 2001 Roadless Rule.

As resource conditions and policies have evolved over time, it is now evident that the blanket, national approach taken in the 2001 Roadless Rule unnecessarily and adversely limits exercise of management discretion. The flexibility to respond to local land and resource conditions is paramount.

Conditions within and adjacent to National Forest System lands have dramatically changed over the twenty-four years since the 2001 Roadless Rule was published and are expected to continue to change, including the expanding wildland-urban interface; growing impacts of extreme wildfire, drought, and insect and disease infestations; and continuing deferred maintenance needs on National Forest System roads and trails. Management flexibility is needed for the Agency to achieve its multiple use conservation mission, including timber production, recreation, wildfire suppression, and fuel reduction treatments. These needs are magnified by the emphasis on domestic timber and energy production on Federal lands and deregulation policies reflected in Executive Orders 14192, 14225, 14154, as well as Secretary's Memorandum 1078-006, Increasing Timber Production and Designating an Emergency Situation on National Forest System Lands. The USDA is cognizant that the President's recent Orders have significantly changed the context in which the USDA Forest Service administers these lands for the benefits of all Americans. Local decision making and active land management benefit not only the communities that rely on national forests for jobs, natural resources, open spaces, forage, and clean water, but all citizens who utilize the multiple use attributes of national forests.

Given these national policy priorities and changing conditions, the Department has determined the 2001 Roadless Rule is no longer the best approach to managing inventoried roadless areas within the National Forest System. Managing inventoried roadless areas to maintain their roadless character through a national rule no longer facilitates the maintenance of the long-term health and productivity. A national rule adds administrative burden and does not efficiently support multiple use management of National Forest System lands. This action seeks to reinstate a reliance upon the flexibility of the local land management planning process. The proposed rule responds to the need for national forests to take swift and immediate action to reduce wildfire risk and help protect surrounding communities and infrastructure. It would allow local managers, as deemed appropriate and consistent with land management plans, to build roads and implement active forest management practices (for example, timber sales and thinning) in inventoried roadless areas. Combined with the complex social and resource issues, the litigation and legislative history surrounding inventoried roadless area conservation demonstrates that while differences in opinion seem inevitable, various active management options responding to changing local land conditions are available where needed.

Land management plans and Agency directives provide a comprehensive framework with respect to inventoried roadless area decision making. Eliminating a cumbersome national level oversight process and returning authority to the local decisionmakers provides for efficiency as well as effectiveness for resource conservation. The important resource values of inventoried roadless areas can be effectively conserved through local decision making and planning without restrictive and unnecessary national prohibitions.

Preliminary Description of Proposed Action

The USDA proposes to rescind the 2001 Roadless Area Conservation Rule (66 FR 3244, 36 CFR Subpart B (2001)) on 44.7 million acres, including the Tongass National Forest, but maintain state-specific roadless conservation rules for Idaho and Colorado (36 CFR Subparts C and D). As directed by Executive Order 14153: Unleashing Alaska's Extraordinary Resource Potential, the proposed rule will expressly exclude the Tongass National Forest from the 2001 Roadless Rule. If adopted, management of inventoried roadless areas would be governed by applicable land management plan direction.

The proposed action would rescind the prohibitions set forth in the 2001 Roadless Rule. Local land management planning, guided by public input and information on land conditions, would provide the basis for conservation of inventoried roadless areas. The proposed rule would not compel amendment or revision of any land management plan, though plans may be amended in any manner whatsoever, and are revised periodically (16 U.S.C. 1604(f)).

The proposed rescission of the 2001 Roadless Rule would not authorize any specific ground-disturbing activities or projects, nor does it propose any increase in the overall amount of timber harvested or roads constructed; require any timber harvest or road construction; or dictate when, where, or how such activities may occur in the future. These decisions are left to the local officials through site-specific analysis and evaluation of land and resource conditions and would be consistent with applicable plan provisions. The proposed rule would not alter existing regulatory requirements for environmental analysis, public engagement, or administrative review.

Preliminary Description of Known Alternatives

In addition to the proposed action, the EIS will analyze a `no action' alternative that would retain the 2001 Roadless Rule.

Preliminary List of Substantive Issues and Summary of Expected Impacts

The EIS will evaluate the potential social, economic, and environmental programmatic effects resulting from the implementation of the alternatives described above. Substantive issues are those that meaningfully inform the consideration of reasonably foreseeable impacts of the proposed action or a decision on the alternative selected for implementation (7 CFR 1b.11). The following preliminary substantive issues are anticipated to be evaluated. The EIS will evaluate the anticipated impacts and benefits, including reasonably foreseeable impacts, related to:

• Public access to National Forest System lands, including for recreation, to facilitate subsistence or other uses, and to exercise legal rights.

• Forest health and management, including timber management, fuels management, and fire suppression.

• Soil, water and air; plant and animal communities, including threatened, endangered, sensitive species; scenic integrity; recreation settings and opportunities; and cultural resources, traditional cultural properties, and sacred sites.

• Local and regional economies.

The level of environmental review of the identified resources for the EIS will be commensurate with the anticipated effects to each resource. Because the proposed rule does not propose to compel changes to land management plans or initiate development of specific activities within currently inventoried roadless areas, it is uncertain if there would be any future project-level decisions, and what those decisions might entail. Effects of any future actions will be considered at Forest or project-level scales where site-specific details of a specific action and the resources it affects can be meaningfully evaluated and weighed, subject to their land management plans and environmental analysis processes.

Cooperating and Participating Agencies

The USDA Forest Service is the lead agency. No Cooperating or Participating Agencies have been designated. The USDA Forest Service does not anticipate designating any Federal, State, Tribal, or local agencies as cooperating or participating agencies. These organizations are encouraged to provide input through the public comment opportunities for this notice of intent, as well as the proposed rule and draft EIS.

Responsible Official

The Responsible Official is the Secretary of Agriculture or her designee.

Request for Public Comments

Comments received on this notice of intent will guide the development of the EIS. The Agency is requesting comments on alternatives or effects and on relevant information, studies, or analyses with respect to the proposal. Follow the instructions for sending comments (see ADDRESSES section above).

It is important that reviewers provide their comments at such times and in such a manner that they are useful to the Agency's preparation of the EIS; therefore, comments should be provided prior to the close of the comment period and should clearly articulate the reviewer's concerns and contentions. When lengthy or complex comments are provided, they are most effective if a brief, plainly worded summary of the main points is included. Comments, including attachments and any personal information provided in your comments, will be posted to the docket unchanged. Do not submit any information you consider to be private, Confidential Business Information (CBI), or other information, the disclosure of which is restricted by statute.

This action is not subject to the pre-decisional administrative review (objection) process of 36 CFR 218 or 219.

Tribal governments and Alaska Native Corporations will have an opportunity to be engaged during rulemaking and EIS development through various coordination and consultation events.

Anticipated Permits or Other Authorizations

No anticipated permits or other authorizations are required for this action.

Brooke Rollins,
Secretary of Agriculture.

[FR Doc. 2025-16581 Filed 8-28-25; 8:45 am]

BILLING CODE 3411-15-P